DEPARTMENT OF ENERGY

Agency Information Collection Revision

AGENCY: Department of Energy.

ACTION: Notice of request for comments.

SUMMARY: The Department of Energy (DOE) invites public comment on a revision of currently approved collection of information that DOE is developing for submission to the Office of Management and Budget (OMB) pursuant to the Paperwork Reduction Act of 1995.

DATES: Comments regarding this proposed information collection must be received on or before February 9, 2024. If you anticipate any difficulty in submitting comments within that period, contact the person listed in the FOR FURTHER INFORMATION CONTACT section as soon as possible.

ADDRESSES: Written comments may be sent to Kathryn Clarke, U.S. Department of Energy, Office of Energy Jobs, 1000 Independence Avenue SW, Washington, DC 20585 or by Kathryn.clarke@hq.doe.gov.

FOR FURTHER INFORMATION CONTACT: Kathryn Clarke, Kathryn.clarke@hq.doe.gov, (240) 429-3482.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-5179;

(2) Information Collection Request Titled: United States Energy and Employment Report;

(3) Type of Review: Revision;

(4) Purpose: The rapidly changing nature of energy production, distribution, and consumption throughout the U.S. economy is having a dramatic impact on job creation and economic competitiveness, but is inadequately understood and, in some cases, incompletely measured by traditional labor market tools. The U.S. Energy and Employment Report Survey collects data from in-scope industries and then quantifies and qualifies employment energy activities, workforce demographics and the industry's perception on the difficulty of recruiting qualified workers. The data is used to generate an annual U.S. Energy and Employment Report. This revision to the data collection will provide more targeted insight on the construction sector for energy manufacturing and infrastructure as well as Puerto Rico and the U.S. Virgin Islands.

(5) Annual Estimated Number of Respondents: 37,500;

(6) Annual Estimated Number of Total Responses: 37,500;

(7) Annual Estimated Number of Burden Hours: 8,736;

(8) Annual Estimated Reporting and Recordkeeping Cost Burden: $358,438.00.

Statutory Authority: Sec. 301 of the Department of Energy Organization Act (42 U.S.C. 7151); sec. 5 of the Federal Energy Administration Act of 1974 (15 U.S.C. 764); and sec. 103 of the Energy Reorganization Act of 1974 (42 U.S.C. 5813).

Signing Authority

This document of the Department of Energy was signed on December 5, 2023, by Betony Jones, Director, Office of Energy Jobs, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 6, 2023.
Treena V. Garrett,
Federal Register Liaison Officer, U.S. Department of Energy.

[FR Doc. 2023-27136 Filed 12-8-23; 8:45 am]

BILLING CODE 6450-01-P